INTERNATIONAL TRADE COMMISSION

[USITC SE-14-018]

Government in the Sunshine Act Meeting Notice

AGENCY HOLDING THE MEETING: United States International Trade Commission.

TIME AND DATE: May 30, 2014 at 11:00 a.m.

PLACE: Room 101, 500 E Street SW., Washington, DC 20436, Telephone: (202) 205-2000.

STATUS: Open to the public.

MATTERS TO BE CONSIDERED: 1. Agendas for future meetings: none.

2. Minutes.

3. Ratification List.

4. Vote in Inv. Nos. 701-TA-417 and 731-TA-953, 957-959, and 961-962 (Second Review)(Carbon and Certain Alloy Steel Wire Rod from Brazil, Indonesia, Mexico, Moldova, Trinidad and Tobago, and Ukraine). The Commission is currently scheduled to complete and file its determinations and views of the Commission on June 16, 2014.

5. Outstanding action jackets: none.

In accordance with Commission policy, subject matter listed above, not disposed of at the scheduled meeting, may be carried over to the agenda of the following meeting.

By order of the Commission.
Issued: May 20, 2014.
William R. Bishop,
Supervisory Hearings and Information Officer.

[FR Doc. 2014-12537 Filed 5-27-14; 11:15 am]

BILLING CODE 7020-02-P